GENERAL SERVICES ADMINISTRATION

41 CFR Part 102-76

[FMR Case 2023-102-03; Docket No. GSA-FMR-2024-0012; Sequence No. 1]

RIN 3090-AK76

Federal Management Regulation; Accessibility Standard for Pedestrian Facilities in the Public Right-of-Way; Correction

AGENCY: Office of Acquisition Policy, General Services Administration (GSA).

ACTION: Final rule; correction.

SUMMARY: The General Services Administration (GSA) is issuing a correction to FMR Case 2023-102-03: Accessibility Standard for Pedestrian Facilities in the Public Right-of-Way. The document contained an incorrect docket number. This document contains the correct docket number.

DATES: Effective September 3, 2024.

FOR FURTHER INFORMATION CONTACT: Mr. Chris Coneeney, Director, Real Property Policy Division, Office of Government-wide Policy, at 202-208-2956 or chris.coneeney@gsa.gov, for clarification of content. For information pertaining to status or publication schedules, contact the Regulatory Secretariat Division at 202-501-4755 or GSARegSec@gsa.gov. Please cite FMR Case 2023-102-03.

SUPPLEMENTARY INFORMATION:

Correction

In FR Doc. 2024-14424, in the Federal Register of July 3, 2024, at 89 FR 55072, correct the docket number in the third column to read “GSA-FMR-2024-0012”.

Mehul Parekh,
Acting Associate Administrator, Office of Government-wide Policy.

[FR Doc. 2024-15372 Filed 7-15-24; 8:45 am]

BILLING CODE 6820-14-P